DEPARTMENT OF THE INTERIOR

Minerals Management Service

Environmental Documents Prepared for Proposed Oil, Gas, and Mineral Operations by the Gulf of Mexico Outer Continental Shelf (OCS) Region

AGENCY: Minerals Management Service, Interior.

ACTION: Notice of the Availability of Environmental Documents Prepared for OCS Mineral Proposals by the Gulf of Mexico OCS Region.

SUMMARY: In accordance with Federal Regulations that implement the National Environmental Policy Act (NEPA), the Minerals Management Service (MMS) announces the availability of NEPA-related Site-Specific Environmental Assessments (SEA) and Findings of No Significant Impact (FONSI), prepared by MMS for the following oil-, gas-, and mineral-related activities proposed on the Gulf of Mexico.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration, development, production, and transport of oil, gas, and mineral resources on the Federal OCS. These SEAs examine the potential environmental effects of activities described in the proposals and present MMS conclusions regarding the significance of those effects. Environmental Assessments are used as a basis for determining whether or not approval of the proposals constitutes a major Federal action that significantly affects the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

Federal Register
Activity/operator | Location | Date
Noble Energy, Inc., Structure Removal, SEA ES/SR 09-059 | Eugene Island, Block 308, Lease OCS-G 00996, located 76 miles from the nearest Louisiana shoreline | 10/2/2009
Coastal Planning & Engineering, Inc., Geological & Geophysical Prospecting for Mineral Resources, SEA M09-012 | Located off the coast of Pinellas County, Florida on the Federal OCS of the Gulf of Mexico | 10/2/2009
Beryl Oil and Gas LP, Structure Removal, SEA ES/SR 09-182 | South Timbalier, Block 195, Lease OCS-G 03593, located 42 miles from the nearest Louisiana shoreline | 10/2/2009
XTO Offshore, Inc., Structure Removal, SEA ES/SR 09-192 | High Island, Block A367, Lease OCS-G 23222, located 120 miles from the nearest Texas shoreline | 10/6/2009
Walter Oil & Gas Corporation, Well Conductor Removal, SEA RPM EL390-SS002 | Eugene Island, Block 390, Lease OCS-G 14487, located 85 miles from the nearest Louisiana shoreline | 10/9/2009
Walter Oil & Gas Corporation, Well Conductor Removal, SEA RPM EW991-SS01 | Ewing Bank, Block 991, Lease OCS-G 13088, located 72 miles from the nearest Louisiana shoreline | 10/9/2009
Walter Oil & Gas Corporation, Well Severance, SEA RPM MC68-SS001 | Mississippi Canyon, Block 68, Lease OCS-G 15464, located 20 miles from the nearest Louisiana shoreline | 10/9/2009
Walter Oil & Gas Corporation, Well Severance, SEA RPM MC837-SS01 | Mississippi Canyon, Block 837, Lease OCS-G 16650, located 64 miles from the nearest Louisiana shoreline | 10/9/2009
ExxonMobil Corporation, Revised Exploration Plan for Seismic Activities, SEA R-4982 AA | Located in the Central Planning Area of the Gulf of Mexico, 230 miles from Grand Chenier, Louisiana | 10/15/2009
Energy Resource Technology GOM, Inc., Structure Removal, SEA ES/SR 09-205 | West Cameron, Block 328, Lease OCS-G 22542, located 47 miles from the nearest Louisiana shoreline | 10/16/2009
Energy Resource Technology GOM, Inc., Structure Removal, SEA ES/SR 09-204 | East Cameron, Block 282, Lease OCS-G 21581, located 85 miles from the nearest Louisiana shoreline | 10/19/2009
Chevron U.S.A., Inc., Structure Removal, SEA ES/SR 09-209 | Eugene Island, Block 339, Lease OCS-G 02318, located 83 miles from the nearest Louisiana shoreline | 10/19/2009
Energy Resource Technology GOM, Inc., Structure Removal, SEA ES/SR 09-207 | High Island, Block A544, Lease OCS-G 14897, located 86 miles from the nearest Texas shoreline | 10/19/2009
Energy Partners, Ltd., Structure Removals, SEA ES/SR 09-193, 09-194, 09-195, 09-196, 09-197, 09-198, 09-199, 09-200, 09-201 | Well Protectors No. 28 & No. 11 “A”, South Pass, Block 27, Lease OCS-00352 & OCS-00693, Well Protectors No. 29, No. 149, No. 50, No. 51, No. 41, No. 40, & No. 3, South Pass, Block 28, Lease OCS-G 00353 & 00694, located 4 miles from the nearest Louisiana shoreline | 10/19/2009
EMGS Americas, Geological & Geophysical Exploration for Mineral Resources, SEA T09-014 | Located in the Western Planning Area south of Galveston, Texas | 10/20/2009
EMGS Americas, Geological & Geophysical Exploration for Mineral Resources, SEA T09-015 | Located in the Western Planning Area south of Galveston, Texas | 10/20/2009
EMGS Americas, Geological & Geophysical Exploration for Mineral Resources, SEA T09-016 | Located in the Western Planning Area south of Galveston, Texas | 10/20/2009
Coastal Technology Corporation, Geological & Geophysical Prospecting for Mineral Resources, SEA E09-008 | Located off the coast of Pinellas County, Florida on the Federal OCS of the Gulf of Mexico | 10/21/2009
Chevron USA, Inc., Revised Exploration Plan, SEA ES/SR R-4984 AA | Located in the Central Planning Area of the Gulf of Mexico, 120 miles south of Leeville, Louisiana | 10/21/2009
Energy Resource Technology GOM, Inc., Structure Removal, SEA ES/SR 09-206 | West Cameron, Block 206, Lease OCS-24757, located 68 miles from the nearest Louisiana shoreline | 10/28/2009
Venice Gathering System, LLC, Structure Removal, SEA ES/SR 09-202 | West Delta, Block 20, Row No. 13513, located 6 miles from the nearest Louisiana shoreline | 10/28/2009
Anglo-Suisse Offshore Partners, LLC, Structure Removal, SEA ES/SR 09-211 & 09-213 | West Delta, Block 029, Lease OCS-00385, located 7 miles from the nearest Louisiana shoreline | 10/30/2009
TGS-NOPEC Geophysical Company, Geological & Geophysical Exploration for Mineral Resources, SEA M09-010 | Located in the Eastern Gulf of Mexico | 11/4/2009
Anglo-Suisse Offshore Partners, LLC, Structure Removal, SEA ES/SR 09-212 | West Delta, Block 28, Lease OCS-00384, located 7 miles from the nearest Louisiana shoreline | 11/4/2009
Murphy Exploration & Production Company, Initial Exploration Plan, SEA N-9424 | De Soto Canyon, Block 4, located 65 miles from the nearest Louisiana shoreline, 80 miles from the nearest Mississippi shoreline, 74 miles from the nearest Alabama shoreline, 78 miles from the nearest Florida shoreline, & 128 miles to shoreline, located in Port Fourchon, Louisiana | 11/5/2009
ENI US Operating Co, Inc., Initial Exploration Plan, SEA N-9423 | Lloyd Ridge, Block 411, located 154 miles from the nearest Louisiana shoreline, 168 miles from the nearest Mississippi shoreline, 163 miles from the nearest Alabama shoreline, 165 miles from the nearest Florida shoreline, & 185 miles to shoreline, located in Port Fourchon, Louisiana | 11/5/2009
Tarpon Operating & Development, LLC, Well Conductor Removal, SEA ES/SR RPM HIA308-SS01 | High Island, Block A308, Lease OCS-G 25603, located 103 miles from the nearest Louisiana shoreline | 11/10/2009
TGS-NOPEC Geophysical Company, Geological & Geophysical Prospecting for Mineral Resources, SEA L09-036 | Located in the Central Gulf of Mexico south of Mobile, Alabama | 11/12/2009
CGGVerita's Geological & Geophysical Prospecting for Mineral Resources, SEA T09-018 | Located in the Western and Central Gulf of Mexico south of Lake Charles, Louisiana | 11/12/2009
WESTEMGECO, LLC, Geological & Geophysical Prospecting for Mineral Resources, SEA T09-019 | Located in the Western and Central Gulf of Mexico south of Lake Charles, Louisiana | 11/12/2009
Shell Offshore, Inc., Geological & Geophysical Prospecting for Mineral Resources, SEA L09-035 | Located in the Central Gulf of Mexico south of Venice, Louisiana | 11/12/2009
Noble Energy, Inc., Revised Exploration Plan for Seismic Activities, SEA R-4988 AA | Green Canyon, Block 723, Lease OCS-G 21813, located 124 miles south of Terrebonne Parish, Louisiana | 11/13/2009
Nexen Petroleum, USA, Inc., Structure Removal, SEA ES/SR 09-215 | Eugene Island, Block 258, Lease OCS-G 01959, located 57 miles from the nearest Louisiana shoreline | 11/18/2009
Maritech Resources, Inc., Structure Removal, SEA ES/SR 09-214 | Main Pass, Block 162, Lease OCS-G 13968, located 44 miles from the nearest Louisiana shoreline | 11/18/2009
McMoRan Oil & Gas, LLC, Structure Removal, SEA ES/SR 09-217 | Ship Shoal, Block 170, Lease OCS-G 03584, located 33 miles from the nearest Louisiana shoreline | 11/18/2009
Energy Resource Technology GOM, Inc., Structure Removal, SEA ES/SR 09-208 | West Cameron, Block 383, Lease OCS-G 22546, located 62 miles from the nearest Louisiana shoreline | 11/18/2009
McMoRan Oil & Gas, LLC, Structure Removal, SEA ES/SR 09-048 | West Cameron, Block 590, Lease OCS-G 22567, located 90 miles from the nearest Louisiana shoreline | 11/18/2009
Murphy Exploration & Production Company, Initial Exploration Plan, SEA N-9416 | De Soto Canyon, Blocks 47 & 48, located 76 miles from the nearest Louisiana shoreline, 85 miles from the nearest Mississippi shoreline, 80 miles from the nearest Alabama shoreline, and 85 miles from the nearest Florida shoreline | 11/19/2009
EMGS Americas, Geological & Geophysical Exploration for Mineral Resources, SEA T09-017 | Located in the Western Planning Area south of Galveston, Texas | 11/19/2009
CGGVeritas, Geological & Geophysical Prospecting for Mineral Resources, SEA T09-021 | Located in the Western and Central Gulf of Mexico south of Lake Charles, Louisiana | 11/19/2009
McMoRan Oil & Gas, LLC, Structure Removal, SEA ES/SR 09-047 | West Cameron, Block 561, Lease OCS-G 04094, located 100 miles from the nearest Louisiana shoreline | 11/20/2009
Seneca Resources Corporation, Structure Removal, SEA ES/SR 09-221 & 09-222 | Vermilion, Block 309, Lease OCS-G 16310, located 74 miles from the nearest Louisiana shoreline | 11/23/2009
Chevron USA, Inc., Structure Removal, SEA ES/SR 09-220 | Eugene Island, Block 26, Lease OCS-G 03147, located 10 miles from the nearest Louisiana shoreline | 11/25/2009
ATP Oil & Gas Corporation, Structure Removal, SEA ES/SR 09-219 | Brazos, Block 578, Lease OCS-G 25517, located 12 miles from the nearest Texas shoreline | 11/30/2009
Shell Offshore, Inc., Revised Exploration Plan, SEA R-4991 AA | Garden Banks, Block 426, Lease OCS-G 08241, located 136 miles offshore, south of Vermilion Parish, Louisiana | 12/1/2009
Shell Offshore, Inc., Revised Exploration Plan for Seismic Activities, SEA R-4992 AA | Mississippi Canyon, Block 984, Lease OCS-G 22919, located 66 miles south of Plaquemines Parish, Louisiana | 12/1/2009
Fugro Multi Client Services, Inc., Geological & Geophysical Exploration for Mineral Resources, SEA M09-010 | Located in the Eastern Gulf of Mexico | 12/4/2009
Hess Corporation, Revised Development Operations Coordination Document, SEA R-4996 AA | Located in the Central Planning Area of the Gulf of Mexico, 135 miles south of Intracoastal City, Louisiana | 12/10/2009
Shell Offshore, Inc., Revised Exploration Plan for Seismic Activities, SEA R-4997 AA | Located in the Central Planning Area of the Gulf of Mexico, 112 miles south of Theodore, Alabama | 12/15/2009
Maritech Resources, Inc, Structure Removal, SEA ES/SR 09-225 | South Marsh Island, Block 48, Lease OCS-00786, located 45 miles from the nearest Louisiana shoreline | 12/17/2009
EMGS Americas, Geological & Geophysical Exploration for Mineral Resources, SEA L09-039 | Located in the Central Planning Area south of Mobile, Alabama | 12/22/2009
Coastal Planning & Engineering, Inc., Geological & Geophysical Exploration for Mineral Resources, SEA M09-003 | Located off the coast of Longboat Key, Florida on the Federal OCS of the Gulf of Mexico | 12/22/2009
Energy Resource Technology GOM, Inc., Structure Removal, SEA ES/SR 09-227 | East Cameron, Block 298, Lease OCS-G 21583, located 89 miles from the nearest Louisiana shoreline | 12/28/2009
Arena Offshore, LLC, Structure Removal, SEA ES/SR 09-025 | East Cameron, Block 359, Lease OCS-G 02567, located 105 miles from the nearest Louisiana shoreline | 12/29/2009
Maritech Resources, Inc., Structure Removal, SEA ES/SR 09-218 | Ship Shoal, Block 219, Lease OCS-G 00829, located 47 miles from the nearest Louisiana shoreline | 12/29/2009
Beryl Resources, LP, Structure Removal, SEA ES/SR 09-237 | Main Pass, Block 89, Lease OCS-G22790, located 8 miles from the nearest Louisiana shoreline | 12/31/2009

Persons interested in reviewing environmental documents for the proposals listed above or obtaining information about SEAs and FONSIs prepared by the Gulf of Mexico OCS Region are encouraged to contact MMS at the address or telephone listed in the FOR FURTHER INFORMATION CONTACT section.

Dated: January 29, 2010.
Lars Herbst,
Regional Director, Gulf of Mexico OCS Region.

[FR Doc. 2010-7335 Filed 3-31-10; 8:45 am]

BILLING CODE 4310-MR-P